DEPARTMENT OF COMMERCE

International Trade Administration

[A-588-874]

Certain Hot-Rolled Steel Flat Products From Japan: Final Results of Antidumping Duty Administrative Review and Final Determination of No Shipments; 2019-2020

AGENCY: Enforcement and Compliance, International Trade Administration, Department of Commerce.

SUMMARY: The U.S. Department of Commerce (Commerce) determines that Nippon Steel Corporation, producer and exporter of hot-rolled steel flat products (hot-rolled steel) from Japan, sold subject merchandise in the United States at prices below normal value during the period of review (POR) October 1, 2019, through September 30, 2020. In addition, Commerce determines that Honda Trading Canada, Inc. (Honda) and Mitsui & Co., Ltd. (Mitsui) had no shipments during the POR.

DATES: Applicable May 24, 2022.

FOR FURTHER INFORMATION CONTACT: Jun Jack Zhao or Myrna Lobo, AD/CVD Operations, Office VII, Enforcement and Compliance, International Trade Administration, U.S. Department of Commerce, 1401 Constitution Avenue NW, Washington, DC 20230; telephone: (202) 482-1396 or (202) 482-2371, respectively.

SUPPLEMENTARY INFORMATION:

Background

On November 19, 2021, Commerce published the Preliminary Results of this review in the Federal Register.¹ This review covers one mandatory exporter/producer of subject merchandise, Nippon Steel Corporation, Nippon Steel Nisshin Co., Ltd., Nippon Steel Trading Corporation (collectively, NSC).² We invited interested parties to comment on the Preliminary Results. Between December 20 and 27, 2021, Commerce received timely filed case briefs and rebuttal briefs from NSC, JFE Shoji America LLC and JFE Shoji Corporation (JFE), Nucor Corporation (Nucor),³ and Tokyo Steel Manufacturing Co., Ltd. (Tokyo Steel).⁴ On December 20, 2021, Commerce received a hearing request from NSC.⁵ On January 31, 2022, NSC withdrew its hearing request.⁶

¹ See Certain Hot-Rolled Steel Flat Products from Japan: Preliminary Results of Antidumping Duty Administrative Review and Preliminary Determination of No Shipments; 2019-2020, 86 FR 64901 (November 19, 2021) (Preliminary Results), and accompanying Preliminary Decision Memorandum.

² Commerce found in a changed circumstances review that Nippon Steel Corporation is the successor-in-interest to Nippon Steel & Sumitomo Metal Corporation, Nippon Steel Nisshin Co., Ltd., is the successor-in-interest to Nisshin Steel Co., Ltd., and Nippon Steel Trading Corporation is the successor-in-interest to Nippon Steel & Sumikin Bussan Corporation. See Certain Hot-Rolled Steel Flat Products from Japan: Notice of Final Results of Antidumping Duty Changed Circumstances Review, 84 FR 46713 (September 5, 2019). Commerce also determined that the three successor-in-interest companies are affiliated and should be collapsed into a single entity. Id. Because there is no information on the record of this administrative review that would lead us to revisit this determination, we are continuing to treat these companies as part of a single entity.

³ In this administrative review, the petitioners are AK Steel Corporation; Nucor Corporation; SSAB Enterprises, LLC; Steel Dynamic, Inc.; and United States Steel Corporation.

⁴ See NSC's Letter, “Certain Hot-Rolled Steel Flat Products from Japan: NSC's Case Brief,” dated December 21, 2021; JFE's Letter, “Certain Hot-Rolled Steel Flat Products from Japan: Letter in Lieu of Case Brief,” dated December 20, 2021; Nucor Letter, “Certain Hot-Rolled Steel Flat Products from Japan: Petitioner's Rebuttal Brief,” dated December 28, 2021; Tokyo Steel's Letter, “Letter in lieu of Rebuttal Brief: Certain Hot-Rolled Steel Flat Products from Japan,” dated December 27, 2021.

⁵ See NSC's Letter, “Certain Hot-Rolled Steel Flat Products from Japan: NSC's Hearing Request,” dated December 20, 2021.

⁶ See NSC's Letter, “Certain Hot-Rolled Steel Flat Products from Japan: Withdrawal of NSC's Hearing Request,” January 31, 2022.

On March 10, 2022, we extended the deadline for the final results.⁷ The deadline for the final results of this review is May 18, 2022.

⁷ See Memorandum, “Certain Hot-Rolled Steel Products from Japan: Extension of Deadline for Final Results of Antidumping Duty Administrative Review; 2019-2020,” dated March 10, 2022.

These final results cover twenty-nine producers and/or exporters of subject merchandise.⁸ Based on an analysis of the comments received, we made certain changes to the weighted-average dumping margin determined for NSC. The weighted-average dumping margins are listed in the “Final Results of Review” section, below. Commerce conducted this review in accordance with section 751(a) of the Tariff Act of 1930, as amended (the Act).

⁸ See Initiation of Antidumping and Countervailing Duty Administrative Reviews, 85 FR 78990 (December 8, 2020).

Scope of the Order ⁹

⁹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

The merchandise covered by the Order is certain hot-rolled steel flat products. For a complete description of the scope of the Order, see the Issues and Decision Memorandum.¹⁰

¹⁰ See Memorandum, “Issues and Decision Memorandum for the Final Results of the Antidumping Duty Administrative Review: Certain Hot-Rolled Steel Flat Products from Japan; 2019-2020,” dated concurrently with, and hereby adopted by, this notice (Issues and Decision Memorandum).

Final Determination of No Shipments

In the Preliminary Results, Commerce preliminarily determined that Honda and Mitsui had no shipments of subject merchandise during the POR. As no party has identified any record evidence which would call into question the preliminary findings with respect to these two companies, we continue to find that they made no shipments of subject merchandise during the POR. Accordingly, consistent with our practice, we intend to instruct U.S. Customs and Border Protection (CBP) to liquidate any existing entries of subject merchandise produced by Honda and Mitsui, but exported by other parties without their own rate, at the all-others rate.¹¹

¹¹ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Analysis of Comments Received

We addressed all issues raised in the case and rebuttal briefs in the Issues and Decision Memorandum. The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from parties, we made changes to NSC's margin calculations. For a discussion of these changes, see the Issues and Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have calculated a weighted-average dumping margin for NSC that is not zero, de minimis, or determined entirely on the basis of facts available. Accordingly, Commerce has assigned to companies not individually examined a margin of 24.07 percent, which is NSC's calculated weighted-average dumping margin.

Final Results of Review

We are assigning the following weighted-average dumping margins to the firms listed below for the period October 1, 2019, through September 30, 2020:

¹² We are treating these companies as part of a single entity. See supra, n.2.

¹³ We collapsed JFE Shoji Trade Corporation with JFE Steel Corporation in the underlying investigation. See Certain Hot-Rolled Steel Flat Products from Japan: Preliminary Determination of Sales at Less than Fair Value and Postponement of Final Determination, 81 FR 15222 (March 22, 2016), and accompanying Preliminary Decision Memorandum at 8-9, unchanged in Certain Hot-Rolled Steel Flat Products from Japan: Final Determination of Sales at Less Than Fair Value and Final Affirmative Determination of Critical Circumstances, 81 FR 53409 (August 12, 2016).

Exporter/producer | Weighted- average dumping margin (percent)
Nippon Steel Corporation/Nippon Steel Nisshin Co., Ltd./Nippon Steel Trading Corporation ¹² | 24.07
Hanwa Co., Ltd | 24.07
Higuchi Manufacturing America, LLC | 24.07
Higuchi Seisakusho Co., Ltd | 24.07
Hitachi Metals, Ltd | 24.07
JFE Steel Corporation/JFE Shoji Trade Corporation ¹³ | 24.07
JFE Shoji Trade America | 24.07
Kanematsu Corporation | 24.07
Kobe Steel, Ltd | 24.07
Metal One Corporation | 24.07
Miyama Industry Co., Ltd | 24.07
Nakagawa Special Steel Inc | 24.07
Nippon Steel & Sumikin Logistics Co., Ltd | 24.07
Okaya & Co. Ltd | 24.07
Panasonic Corporation | 24.07
Saint-Gobain K.K | 24.07
Shinsho Corporation | 24.07
Sumitomo Corporation | 24.07
Suzukaku Co., Ltd | 24.07
Suzukaku Corporation | 24.07
Tokyo Steel Manufacturing Co., Ltd | 24.07
Toyota Tsusho Corporation Nagoya | 24.07

Assessment

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Where the respondent reported reliable entered values, we calculated importer- (or customer-) specific ad valorem rates by aggregating the dumping margins calculated for all U.S. sales to each importer (or customer) and dividing this amount by the total entered value of the sales to each importer (or customer).¹⁴ Where Commerce calculated a weighted-average dumping margin by dividing the total amount of dumping for reviewed sales to that party by the total sales quantity associated with those transactions, Commerce will direct CBP to assess importer- (or customer-) specific assessment rates based on the resulting per-unit rates.¹⁵ Where an importer- (or customer-) specific ad valorem or per-unit rate is greater than de minimis (i.e., 0.50 percent), Commerce will instruct CBP to collect the appropriate duties at the time of liquidation.¹⁶ Where an importer- (or customer-) specific ad valorem or per-unit rate is zero or de minimis, Commerce will instruct CBP to liquidate appropriate entries without regard to antidumping duties.¹⁷

¹⁴ See 19 CFR 351.212(b)(1).

¹⁵ Id.

¹⁶ Id.

¹⁷ See 19 CFR 351.106(c)(2).

For the companies which were not selected for individual review, we will assign an assessment rate based on the methodology described in the “Rate for Non-Examined Companies” section, above.

Consistent with Commerce's assessment practice, for entries of subject merchandise during the POR produced by NSC, or the non-examined companies for which the producer did not know that its merchandise was destined for the United States, we will instruct CBP to liquidate unreviewed entries at the all-others rate if there is no rate for the intermediate company/companies involved in the transaction.¹⁸

¹⁸ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 5.58 percent,¹⁹ the all-others rate established in the LTFV investigation. These cash deposit requirements, when imposed, shall remain in effect until further notice.

¹⁹ See Certain Hot-Rolled Steel Flat Products from Japan: Final Determination of Sales at Less Than Fair Value and Final Affirmative Determination of Critical Circumstances, 81 FR 53409 (August 12, 2016).

Notification to Importers

This notice serves as a final reminder to importers of their responsibility under 19 CFR 351.402(f)(2) to file a certificate regarding the reimbursement of antidumping duties prior to liquidation of the relevant entries during this POR. Failure to comply with this requirement could result in the presumption that reimbursement of antidumping duties occurred and the subsequent assessment of double antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act and 19 CFR 351.213(h) and 351.221(b)(5) of Commerce's regulations.

Dated: May 18, 2022.
Lisa W. Wang,
Assistant Secretary for Enforcement and Compliance.

Appendix—List of Topics Discussed in the Issues and Decision Memorandum

I. Summary

II. Background

III. Scope of the Order

IV. Final Determination of No Shipments

V. Changes Since the Preliminary Results

VI. Discussion of the Issues

Comment 1: Whether Commerce Should Deduct Section 232 Duties from U.S. Price

Comment 2: Whether Commerce Should Include the U.S. Revenue for Certain Extra Services in Calculating the Net U.S. Price

Comment 3: Whether Commerce Should Increase the Total Cost of Manufacturing to Account for NSC's Purchases of Iron Ore from its Affiliated Suppliers

VII. Recommendation

[FR Doc. 2022-11160 Filed 5-23-22; 8:45 am]

BILLING CODE 3510-DS-P